DEPARTMENT OF LABOR

Employee Benefits Security Administration

152nd Meeting of the Advisory Council on Employee Welfare and Pension Benefit Plans; Notice of Meeting

Pursuant to the authority contained in Section 512 of the Employee Retirement Income Security Act of 1974 (ERISA), 29 U.S.C. 1142, the 152nd open meeting of the Advisory Council on Employee Welfare and Pension Benefit Plans will be held on August 31-September 2, 2010.

The three-day meeting will take place in C-5515 Room 1-A, U.S. Department of Labor, 200 Constitution Avenue, NW., Washington, DC 20210. The purpose of the open meeting, which will run from 9 a.m. to approximately 5 p.m. on August 31 and September 1, and from 8:30 a.m. to approximately 4 p.m. on September 2, with a one hour break for lunch, is for Advisory Council members to hear testimony from invited witnesses and to receive an update from the Employee Benefits Security Administration (EBSA). The EBSA update is scheduled for the afternoon of September 1, subject to change.

The Advisory Council will study the following issues: (1) Employee Benefit Plan Auditing and Financial Reporting Models, (2) Disparities for Women and Minorities in Retirement, and (3) Healthcare Literacy. The schedule for testimony and discussion of these issues generally will be one issue per day in the order noted above. Descriptions of these topics are available on the Advisory Council page of the EBSA Web site, at http://www.dol.gov/ebsa/aboutebsa/erisa_advisory_council.html.

Organizations or members of the public wishing to submit a written statement may do so by submitting 30 copies on or before August 23, 2010 to Larry Good, Executive Secretary, ERISA Advisory Council, U.S. Department of Labor, Suite N-5623, 200 Constitution Avenue, NW., Washington, DC 20210. Statements also may be submitted as e-mail attachments in text or pdf format transmitted to good.larry@dol.gov. It is requested that statements not be included in the body of the e-mail. Relevant statements received on or before August 23, 2010 will be included in the record of the meeting and posted on the Advisory Council page of the EBSA Web site. Do not include any personally identifiable information (such as name, address, or other contact information) or confidential business information that you do not want publicly disclosed. All statements are posted on the Internet exactly as received, and can be retrieved by most Internet search engines. No deletions, modifications, or redactions will be made to the statements received, as they are public records.

Individuals or representatives of organizations wishing to address the Advisory Council should forward their requests to the Executive Secretary or telephone (202) 693-8668. Oral presentations will be limited to ten minutes, time permitting, but an extended statement may be submitted for the record. Individuals with disabilities who need special accommodations should contact Larry Good by August 23 at the address indicated.

Signed at Washington, DC, this 3rd day of August, 2010.
Michael L. Davis,
Deputy Assistant Secretary, Employee Benefits Security Administration.

[FR Doc. 2010-19439 Filed 8-5-10; 8:45 am]

BILLING CODE 4510-29-P